DEPARTMENT OF COMMERCE

International Trade Administration

Argonne National Laboratory, et al.; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Ave., NW., Washington, DC.

Comments: None received. Decision: Approved. We know of no instruments of equivalent scientific value to the foreign instruments described below, for such purposes as this is intended to be used, that was being manufactured in the United States at the time of its order.

Docket Number: 10-052. Applicant: Argonne National Laboratory, University of Chicago Argonne, Lemont, IL 60439. Instrument: Pilatus 2M Pixel Detector System. Manufacturer: Dectris Ltd., Switzerland. Intended Use: See notice at 75 FR 51239, August 19, 2010. Reasons: The instrument will be used to obtain fine structural information for materials during chemical reactions, such as catalysis. The instrument has gatable data processing as well as high time resolution and high spatial resolution, which makes the instrument unique. Other unique features include direct detection of x-rays in single-photon-counting mode, a radiation-tolerant design, a high dynamic range, a short readout time, high frame rates, high counting rates, and shutterless operation.

Docket Number: 10-053. Applicant: Argonne National Laboratory, University of Chicago Argonne, Lemont, IL 60439. Instrument: UHV Low-Temperature Atomic Force Microscope System for Application in High Magnetic Fields. Manufacturer: Omicron Nanotechnology, Germany. Intended Use: See notice at 75 FR 51239, August 19, 2010. Reasons: The instrument will be used to study atomic scale electrical and magnetic properties of electrically conduction as well as insulation nanostructures prepared by in situ deposition onto clean surfaces. In-situ capacities allow the preparation of clean and well-defined nanostructures on pristine surfaces which would contaminate otherwise. Unique features of this instrument include the capability of applying large magnetic fields (>3 Tesla), which is necessary to allow the clear separation of structural, electronic, and magnetic signals of nanostructures and the evaluation of the properties to be studied in these experiments. The instrument also has in-situ preparation capability and the ability to operate in low temperatures. Further, the instrument is capable of performing imaging in two main modes of operation, i.e., scanning tunneling microscopy and atomic force microscopy.

Dated: September 10, 2010.
Gregory W. Campbell,
Acting Director, Subsidies Enforcement Office, Import Administration.

[FR Doc. 2010-23347 Filed 9-16-10; 8:45 am]

BILLING CODE 3510-DS-P